DEPARTMENT OF ENERGY

Notice of Availability of Report on Data Access and Privacy Issues Related to Smart Grid Technologies

AGENCY: Office of the General Counsel, Department of Energy.

ACTION: Notice of availability.

SUMMARY: Through this notice, the Department of Energy (DOE) announces the availability of its report entitled, “Data Access and Privacy Issues Related to Smart Grid Technologies.” In this report, DOE discusses existing trends, consensus, and potential best practices emerging as States use or adapt existing legal regimes to accommodate the deployment of Smart Grid technologies. DOE also provides a comprehensive summary of the comments received in response to a Request for Information and during a public meeting conducted during the preparation of the report. This report responds to recommendations for DOE set forth in the National Broadband Plan authored by the Federal Communications Commission at the direction of Congress.

ADDRESSES: Copies of the report, comments received and the transcript of the public meeting are available for public inspection at the U.S. Department of Energy, Forrestal Building, 1000 Independence Avenue, SW., Room 1G-051, Washington, DC 20585-0121. Public inspection can be conducted between 9 a.m. and 4 p.m., Monday through Friday, except Federal holidays. These documents can also be accessed online at http://www.gc.energy.gov/1592.htm.

FOR FURTHER INFORMATION CONTACT: Maureen C. McLaughlin, Senior Legal Advisor to the General Counsel, U.S. Department of Energy, Office of the General Counsel, Forrestal Building, 1000 Independence Avenue, SW., Washington, DC 20585-0121. Tel.: (202) 586-5281. E-mail: broadband@hq.doe.gov.

For Media Inquiries, you may contact Jen Stutsman at (202) 586-4940. E-mail: Jen.Stutsman@hq.doe.gov.

SUPPLEMENTARY INFORMATION: On May 11, 2010, DOE published a Request for Information (RFI) seeking comments and information from interested parties to assist DOE in understanding current and potential practices and policies for the states and other entities to empower consumers (and perhaps others) through access to detailed energy information in electronic form—including real-time information from smart meters, historical consumption data, and pricing and billing information. 75 FR 26203. The RFI asked interested parties, including industry, consumer groups and state governments, to report on state efforts to enact Smart Grid privacy and data collection policies. The RFI also sought input regarding individual electric utility practices and policies regarding data access and collection; third party access to detailed energy information; and the role of the consumer in balancing the benefits of access and privacy. Finally, the RFI sought comment on what policies and practices should guide policymakers in determining who can access consumers' energy information and under what conditions. To gather additional data, DOE also published a notice in the Federal Register announcing a public meeting to discuss the issues presented in the RFI. 75 FR 33611 (June 14, 2010). The public meeting, held on June 29, 2010, provided another forum in which interested parties could provide comments and information, as well as engage in constructive dialogue with other interested parties.

In developing its report entitled, “Data Access and Privacy Issues Related to Smart Grid Technologies,” DOE considered all of the comments and information received during the public comment process, as well as other information pertaining to issues of access to and privacy protections for consumer energy usage data. In this report, DOE discusses the results of DOE's efforts to collect and analyze diverse perspectives on the current state of data security and consumer privacy issues associated with the ongoing development and deployment of Smart Grid technologies. DOE also reviews and summarizes the public comments received in response to the RFI and during the public meeting that provide support for the recommendations and observations offered in the report.

Issued in Washington, DC, on October 5, 2010.
Scott Blake Harris,
General Counsel.

[FR Doc. 2010-25544 Filed 10-8-10; 8:45 am]

BILLING CODE 6450-01-P